DEPARTMENT OF JUSTICE

Notice of Lodging of Proposed Consent Decree Under the Clean Air Act

On May 1, 2019, the Department of Justice lodged a proposed Consent Decree with the United States District Court for the District of South Carolina in the lawsuit entitled United States et al. v. Exxon Mobil Oil Corp., Civil Action No. 2:19-cv-1273-RMG.

The Consent Decree resolves claims brought against Exxon Mobil Oil Corporation for recovery of damages for injury to, loss of, or destruction of natural resources under the trusteeship of the National Oceanic and Atmospheric Administration, the Department of the Interior, the South Carolina Department of Health and Environmental Control, and the South Carolina Department of Natural Resources. The claims were filed under Section 107 of the Comprehensive Environmental Response, Compensation, and Liability Act (“CERCLA”), 42 U.S.C. 9607 and under the South Carolina Hazardous Waste Management Act, South Carolina Code of Laws, Ann., Section 44-56-200 (Rev. 2018). Plaintiffs sought damages in order to compensate for injury to, destruction of, loss of, or loss of use of certain natural resources resulting from the release of hazardous substances at nine defined sites located in South Carolina. The proposed Consent Decree resolves the Trustees' claim for all nine sites for $6,589,211.

The publication of this notice opens a period for public comment on the Consent Decree. Comments should be addressed to the Assistant Attorney General, Environment and Natural Resources Division, and should refer to United States et al. v. Exxon Mobil Oil Corp., D.J. Ref. No. 90-11-3-11910. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD. P.O. Box 7611, Washington, DC 20044-7611.

Please enclose a check or money order for $8.75 (25 cents per page reproduction cost) payable to the United States Treasury.

Henry S. Friedman,
Assistant Section Chief, Environmental Enforcement Section, Environment and Natural Resources Division.

[FR Doc. 2019-09526 Filed 5-8-19; 8:45 am]

BILLING CODE 4410-15-P